DEPARTMENT OF JUSTICE

Immigration and Naturalization Service

[INS No. 2232-02; AG Order No. 2612-2002]

Registration and Monitoring of Certain Nonimmigrants From Designated Countries

AGENCY: Immigration and Naturalization Service, Justice.

ACTION: Notice.

SUMMARY: The Attorney General is authorized by regulation to require, by notice in the Federal Register, and after consultation with the Secretary of State, that certain nonimmigrant aliens from specified countries be subject to special registration requirements (including fingerprinting and photographing by the Immigration and Naturalization Service) at the time they apply for admission to the United States. Under the most recent public Notice published in 1998, a special registration requirement applies to certain nonimmigrant aliens from Iran, Iraq, Libya, and Sudan. The requirements of special registration have recently been expanded and those new requirements will become effective on September 11, 2002. This Notice applies the expanded requirements to nonimmigrant aliens from the existing list of designated countries and expands the list of designated countries whose nationals or citizens will be required to comply with these special procedures to include nonimmigrant aliens from Syria.

DATES: This Notice is effective September 11, 2002.

FOR FURTHER INFORMATION CONTACT: Dan Brown, Office of the General Counsel, Immigration and Naturalization Service, 425 I Street, NW., Room 6100, Washington, DC 20536, telephone (202) 514-2895.

SUPPLEMENTARY INFORMATION: Section 262(a) of the Immigration and Nationality Act (“INA”) (8 U.S.C. 1302(a)) provides that all aliens who are age 14 or older and who have not previously been registered and fingerprinted at a consular office abroad, pursuant to section 221(b) of the INA (8 U.S.C. 1201(b)) or sections 30 or 31 of the Alien Registration Act, 1940, have a duty to apply for registration and to be fingerprinted if they remain in the United States for 30 days or longer. As authorized by section 262(c) of the INA (8 U.S.C. 1302(c)), however, the regulations at 8 CFR 264.1(e) contain general provisions waiving the requirement of fingerprinting for many nonimmigrant aliens. Accordingly, most nonimmigrant aliens are admitted to the United States without being either fingerprinted or photographed.

In addition to those general registration requirements, section 263(a) of the INA (8 U.S.C. 1303(a)) authorizes the Attorney General to prescribe special registration for, among other classes, “aliens of any other class not lawfully admitted to the United States for permanent residence.” Pursuant to this section, as well as the Attorney General's authority under sections 214 and 262 of the INA (8 U.S.C. 1184, 1302), the Attorney General has promulgated regulations, to be effective September 11, 2002, and to be codified at 8 CFR 264.1(f)(2)(i) and (ii), that authorize the Attorney General, by notice published in the Federal Register, to direct that certain nonimmigrant aliens from designated foreign countries be subject to special registration requirements. See 67 FR 52584, 52592 (Aug. 12, 2002). This Notice will be effective under those new regulations, which require not only fingerprinting and photographing upon arrival, but also in-person registration after 30 days, annual reregistration, and final registration when leaving the country.

The most recent Notice published by the Attorney General pursuant to the authority of existing 8 CFR 264.1(f) provides for the Immigration and Naturalization Service, at the port-of-entry, to register, fingerprint, and photograph arriving aliens from Iran, Iraq, Libya, and Sudan who are applying for admission to the United States in nonimmigrant status. See 63 FR 39109 (July 21, 1998).

This Notice supplants the July 21, 1998, Notice and designates Iran, Iraq, Libya, Sudan, and Syria as the countries whose nationals or citizens will be subject to the expanded special registration requirements in 8 CFR 264.1(f), as amended. The Attorney General has consulted the Secretary of State in designating these countries. In addition, all the countries covered by this Notice have been designated by the Department of State as state sponsors of terrorism. Certain nonimmigrant alien who are nationals or citizens of one of the countries designated in this Notice will be subject to the special registration requirements of 8 CFR 264.1(f), as amended. As set forth in 8 CFR 264.1(f)(1), as amended, the special registration requirements of 8 CFR 264.1(f), as amended, do not apply to nonimmigrant aliens applying for admission to the United States under sections 101(a)(15)(A) or 101(a)(15)(G) of the INA (8 U.S.C. 1101(a)(15)(A) or (G)). In accordance with 8 CFR 264.1(f)(2)(ii), the special registration requirements also will apply to any nonimmigrant aliens who a consular officer or an inspecting officer has reason to believe are nationals or citizens of one of the five designated countries. This authority is necessary because a review of travel documentation occasionally raises questions regarding the actual nationality or citizenship of a particular nonimmigrant alien. For example, an alien may be a dual national or citizen of one of the designated countries as well as another country for which he or she presents documents.

The July 21, 1998, Notice also provided that the Attorney General, after consultation with the Secretary of State, could exempt certain nonimmigrant aliens from the registering, fingerprinting, and photographing requirements when such action was deemed to be in the interest of foreign policy or national security. The process for granting relief from the requirements of 8 CFR 264.1(f) to nonimmigrant aliens subject to special registration requirements is addressed in 8 CFR 264.1(f)(7), as amended, and is therefore not included in this Notice.

Notice of Designated Countries Whose Nationals and Citizens Will Generally Be Subject to Special Registration Requirements Upon Arrival as Nonimmigrant Aliens

Pursuant to 8 CFR 264.1(f), and 8 CFR 264.1(f)(2)(i) and (ii) as amended at 67 FR 52584, 52592, and after consultation with the Secretary of State, I hereby order:

All nonimmigrant aliens who are nationals or citizens of Iran, Iraq, Libya, Sudan, or Syria, or who a consular officer or an inspecting officer has reason to believe are nationals or citizens of such countries, and who are applying for admission to the United States in a nonimmigrant category other than under section 101(a)(15)(A) or 101(a)(15)(G) of the Immigration and Nationality Act (8 U.S.C. 1101(a)(15)(A) or (G)), shall be subject to the registration requirements in 8 CFR 264.1(f)(3), (5), (6), (8), and (9), as amended. All such nonimmigrant aliens subject to special registration shall be advised of the provisions of 8 CFR 264.1(f), and their obligations to comply with those provisions, when admission is granted.

Dated: September 3, 2002.
John Ashcroft,
Attorney General.

[FR Doc. 02-22791 Filed 9-4-02; 12:53 pm]

BILLING CODE 4410-10-P